DEPARTMENT OF EDUCATION

34 CFR Part 600

Federal Student Aid Programs (Institutional Eligibility); Foreign Institutions Affected by Natural Disasters

AGENCY: Office of Postsecondary Education, Department of Education.

ACTION: Identification of inapplicable regulatory provisions.

SUMMARY: The Secretary is identifying as temporarily inapplicable certain regulatory provisions determining whether an educational institution qualifies in whole or in part as an eligible institution of higher education under the Higher Education Act of 1965, as amended (HEA), to provide relief to foreign institutions affected by Hurricane Irma and Hurricane Maria.

DATES: The regulatory provisions identified in this document are inapplicable from October 18, 2017, through the earlier of June 30, 2019, or the date that an affected foreign institution can resume operation in its home country.

FOR FURTHER INFORMATION CONTACT: Wendy Macias, U.S. Department of Education, 400 Maryland Ave. SW., Room 6C111, Washington, DC 20202. Telephone: (202) 203-9155 or by email: Wendy.Macias@ed.gov.

If you use a telecommunications device for the deaf (TDD) or text telephone (TTY), call the Federal Relay Service (FRS), toll free, at 1-800-877-8339.

SUPPLEMENTARY INFORMATION: The regulations at 34 CFR 600.51(c) state, “A foreign institution must comply with all requirements for eligible and participating institutions except when made inapplicable by the HEA or when the Secretary, through publication in the Federal Register, identifies specific provisions as inapplicable to foreign institutions.” Under this authority, the Secretary is identifying as inapplicable the regulatory provisions listed below from 34 CFR part 600, which determine whether an educational institution qualifies in whole or in part as an eligible institution of higher education under the HEA, and may apply to participate in programs authorized by the HEA.

We are taking this action to provide relief to foreign institutions affected by Hurricane Irma or Hurricane Maria. This action allows a foreign institution that can no longer operate in its home country due to the effects of Hurricane Irma or Hurricane Maria to temporarily operate in another country, contingent upon the foreign institution receiving approval from the Secretary for the relocation after providing:

• The plan and timeline for the temporary relocation, including details of the program offerings and an agreement with any institution at which the affected institution will temporarily relocate;

• Approval of the plan and timeline for the temporary relocation from the foreign institution's accrediting body, including an agreement by that accrediting body to visit and monitor operations at the temporary location;

• Documentation from the government of the country where the temporary campus will be located that the foreign institution will be allowed to operate the temporary location for the period of time specified in the timeline; and

• Any additional information the Secretary requires for approval.

The Secretary reserves the right to revoke through written notice her approval of a foreign institution for relocation upon evidence of waste, fraud, or abuse.

The Secretary is identifying as inapplicable the following regulations:

1. 34 CFR 600.52, definition of a “foreign institution,” paragraph (1)(i), requiring that a foreign institution not be located in a State;

2. 34 CFR 600.52, definition of a “foreign institution,” paragraph (1)(ii), requiring that, with the exception of the clinical training portion of a foreign medical, veterinary, or nursing program, a foreign institution (1) have no U.S. locations; (2) have no written arrangements, within the meaning of § 668.5, with institutions or organizations located in the United States for students enrolling at the foreign institution to take courses from institutions located in the United States; and (3) does not permit students to enroll in any course offered by the foreign institution in the United States, including research, work, internship, externship, or special studies within the United States, except that independent research done by an individual student in the United States for not more than one academic year is permitted if it is conducted during the dissertation phase of a doctoral program under the guidance of faculty, and the research can only be performed in a facility in the United States;

3. 34 CFR 600.52, definition of a “foreign institution,” paragraph (1)(iii), requiring a foreign institution to be legally authorized by the education ministry, council, or equivalent agency of the country in which the institution is located to provide an educational program beyond the secondary education level;

4. 34 CFR 600.52, definition of a “foreign institution,” paragraph (1)(iv), requiring a foreign institution to award degrees, certificates, or other recognized educational credentials in accordance with § 600.54(e) that are officially recognized by the country in which the institution is located;

5. 34 CFR 600.52, definition of a “foreign institution,” paragraph (2), requiring that, if an educational enterprise enrolls students both within a State and outside a State, and the number of students who would be eligible to receive title IV, HEA program funds attending locations outside a State is at least twice the number of students enrolled within a State, the locations outside a State must apply to participate as one or more foreign institutions and must meet all requirements of the definition of a “foreign institution,” and the other requirements applicable to foreign institutions;

6. 34 CFR 600.54(d)(1), requiring the additional locations of a foreign institution to separately meet the definition of a “foreign institution” in 34 CFR 600.52 if the additional location is located outside of the country in which the main campus is located, except as provided for the clinical training portion of a program of a foreign graduate medical school, veterinary school, or nursing school;

7. 34 CFR 600.55(a)(2)(iii), requiring that, as part of its clinical training, a foreign graduate medical school does not offer more than two electives consisting of no more than eight weeks per student at a site located in a foreign country other than the country in which the main campus is located or in the United States, unless that location is included in the accreditation of a medical program accredited by the Liaison Committee on Medical Education (LCME) or the American Osteopathic Association (AOA);

8. 34 CFR 600.55(b)(1)(i), requiring that a foreign graduate medical school be approved by an accrediting body that is legally authorized to evaluate the quality of graduate medical school educational programs and facilities in the country where the school is located; and

9. 34 CFR 600.55(h), requiring that a foreign graduate medical program offered to U.S. students:

• Must be located in the country in which the main campus of the school is located, except for the clinical training portion of the program, and must be in a country whose medical school accrediting standards are comparable to U.S. standards as determined by the NCFMEA, except for exempt clinical training sites in 34 CFR 600.55(h)(3)(ii), or clinical sites located in the United States.

• Unless a clinical training site is an exempt clinical training site under 34 CFR 600.55(h)(3)(ii), for students to be eligible to receive Direct Loan funds at any part of the clinical training portion of the program located in a foreign country other than the country where the main campus of the foreign graduate medical school is located or in the United States: (i) The school's medical accrediting agency must have conducted an on-site evaluation and approved the clinical training site, and (ii) the clinical instruction must be offered in conjunction with programs offered to students enrolled in accredited schools located in that approved foreign country.

Accessible Format: Individuals with disabilities can obtain this document in an accessible format (e.g., braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 1082, 1088.

Dated: October 13, 2017.
Kathleen A. Smith,
Acting Assistant Secretary for Postsecondary Education.

[FR Doc. 2017-22628 Filed 10-17-17; 8:45 am]

BILLING CODE 4000-01-P